DEPARTMENT OF HEALTH AND HUMAN SERVICES

National Institutes of Health

National Institute on Drug Abuse; Amended Notice of Meeting

Notice is hereby given of a change in the meeting of the National Institute on Drug Abuse Special Emphasis Panel, April 18, 2007, 9 a.m. to April 19, 2007, 5 p.m., Courtyard by Marriott Rockville, 2500 Research Boulevard, Rockville, MD 20850 which was published in the Federal Register on April 16, 2007, Volume 72, Number 72.

The date and location of the meeting was changed to May 9-10, 2007, Hilton Washington, DC/Rockville Executive Meeting Center, 1750 Rockville Pike, Rockville, MD 20852. The meeting is closed to the public.

Dated: April 23, 2007.
Jennifer Spaeth,
Director, Office of Federal Advisory Committee Policy.

[FR Doc. 07-2134 Filed 4-30-07; 8:45 am]

BILLING CODE 4140-01-M